DEPARTMENT OF STATE

[Public Notice #: 3446]

U.S. Advisory Commission on Public Diplomacy; Notice of Meeting

The U.S. Advisory Commission on Public Diplomacy, reauthorized pursuant to Public Law 106-113 (H.R. 3194, Consolidated Appropriations Act, 2000), will meet on Thursday, November 9, 2000 in Room 600, 301 4th St., SW, Washington, DC from 10:30 am to 12 noon.

The Commission will discuss FY2001 activities, follow-up to its report on consolidation, and a review of the Smith-Mundt Act and its applicability in this day and age for public diplomacy.

Members of the general public may attend the meeting, though attendance of public members will be limited to the seating available. Access to the building is controlled, and individual building passes are required for all attendees. Persons who plan to attend should contact David J. Kramer, Executive Director, at (202) 619-4463.

Dated: October 23, 2000.
David J. Kramer,
Executive Director, U.S. Advisory Commission on Public Diplomacy.

[FR Doc. 00-27799 Filed 10-27-00; 8:45 am]

BILLING CODE 4710-11-U